DEPARTMENT OF COMMERCE

International Trade Administration

[A-822-804, A-560-811, A-449-804, A-841-804, A-570-860, A-455-803, A-823-809]

Steel Concrete Reinforcing Bars from Belarus, Indonesia, Latvia, Moldova, the People's Republic of China, Poland and Ukraine: Continuation of Antidumping Duty Orders

AGENCY: Import Administration, International Trade Administration, Department of Commerce.

SUMMARY: On August 1, 2006, the Department of Commerce (“the Department”) initiated sunset reviews of the antidumping duty (“AD”) orders on steel concrete reinforcing bars (“rebar”) from Belarus, Indonesia, Latvia, Moldova, the People's Republic of China, Poland and Ukraine. As a result of the determinations by the Department of Commerce (“the Department”) and the International Trade Commission (“ITC”) that revocation of the antidumping duty orders on steel concrete reinforcing bars (“rebar”) from Belarus, Indonesia, Latvia, Moldova, the People's Republic of China, Poland and Ukraine would likely lead to continuation or recurrence of dumping and material injury to an industry in the United States, the Department is publishing a notice of continuation of these antidumping duty orders.

EFFECTIVE DATE: August 9, 2007.

FOR FURTHER INFORMATION CONTACT: Audrey Twyman or Brandon Farlander, AD/CVD Operations, Office 1, Import Administration, International Trade Administration, U.S. Department of Commerce, 14th Street & Constitution Avenue, NW, Washington, DC 20230; telephone: (202) 482-3534 and (202) 482-0182, respectively.

SUPPLEMENTARY INFORMATION:

Background

On September 7, 2001, the Department issued the orders on rebar from Belarus, Indonesia, Latvia, Moldova, the People's Republic of China, Poland and Ukraine. See Antidumping Duty Orders: Steel Concrete Reinforcing Bars From Belarus, Indonesia, Latvia, Moldova, People's Republic of China, Poland, Republic of Korea and Ukraine, 66 FR 46777 (September 7, 2001). On August 1, 2006, the Department initiated and the ITC instituted sunset reviews of the antidumping duty orders on rebar from Belarus, Indonesia, Latvia, Moldova, the People's Republic of China, Poland and Ukraine pursuant to section 751(c) of the Tariff Act of 1930, as amended (“the Act”). See Initiation of Five-year (“Sunset”) Reviews, 71 FR 43443 (August 1, 2006); and Steel Concrete Reinforcing Bars From Belarus, China, Indonesia, Korea, Latvia, Moldova, Poland, and Ukraine, Investigations Nos. 731-TA-873-875, 877-880, and 882 (Review), 71 FR 43523 (August 1, 2006).

As a result of its reviews, the Department found that revocation of the AD orders would likely lead to continuation or recurrence of dumping, and notified the ITC of the magnitude of the margins likely to prevail were the orders to be revoked. See Steel Concrete Reinforcing Bars from Latvia; Final Results of the Sunset Review of Antidumping Duty Order, 72 FR 16767 (April 5, 2007); Steel Concrete Reinforcing Bars from Ukraine; Final Results of the Sunset Review of Antidumping Duty Order, 72 FR 9732 (March 5, 2007), and See Steel Concrete Reinforcing Bars from Moldova, the People's Republic of China, South Korea, Indonesia, Poland, and Belarus; Final Results of the Expedited Sunset Reviews of the Antidumping Duty Orders, 71 FR 70509 (December 5, 2006).

On August 1, 2007, the ITC determined pursuant to section 751(c) of the Act, that revocation of the AD orders on rebar from Belarus, Indonesia, Latvia, Moldova, the People's Republic of China, Poland and Ukraine would likely lead to continuation or recurrence of material injury to an industry in the United States within a reasonably foreseeable time. See Steel Concrete Reinforcing Bars From Belarus, China, Indonesia, Korea, Latvia, Moldova, Poland, and Ukraine, Investigations Nos. 731-TA-873-875, 877-880, and 882 (Review), 72 FR 42110 (August 1, 2007).

Scope of the Orders

The product covered by these orders is all steel concrete reinforcing bars sold in straight lengths, currently classifiable in the Harmonized Tariff Schedule of the United States (“HTSUS”) under item numbers 7214.20.00, 7228.30.8050, 7222.11.0050, 7222.30.0000, 7228.60.6000, 7228.20.1000, or any other tariff item number. Specifically excluded are plain rounds (i.e., non-deformed or smooth bars) and rebar that has been further processed through bending or coating.

HTSUS subheadings are provided for convenience and customs purposes. The written description of the scope of the orders is dispositive.

Determination

As a result of the determinations by the Department and the ITC that revocation of these antidumping duty orders would likely lead to continuation or recurrence of dumping and material injury to an industry in the United States, pursuant to section 751(d)(2) of the Act, the Department hereby orders the continuation of the AD orders on rebar from Belarus, Indonesia, Latvia, Moldova, the People's Republic of China, Poland and Ukraine. U.S. Customs and Border Protection will continue to collect antidumping duty cash deposits at the rates in effect at the time of entry for all imports of subject merchandise.

The effective date of continuation of these orders will be the date of publication in the Federal Register of this Notice of Continuation. Pursuant to section 751(c)(2) and 751(c)(6)(A) of the Act, the Department intends to initiate the next five-year review of these orders not later than July 2012.

These five-year (sunset) reviews and this notice are in accordance with section 751(c) of the Act. This notice is published pursuant to 751(c) and 771(i) of the Act and 19 CFR 351.218(f)(4).

Dated: August 2, 2007.
David M. Spooner,
Assistant Secretary for Import Administration.

[FR Doc. E7-15572 Filed 8-8-07; 8:45 am]

BILLING CODE 3510-DS-S